DEPARTMENT OF AGRICULTURE

Submission for OMB Review; Comment Request

September 13, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Commercial Transportation of Equines to Slaughter.

OMB Control Number: 0579-0160.

Summary of Collection: Title 21, U.S. C. 117, Animal Industry Act of 1884, authorizes the Secretary of Agriculture to issue guidelines for regulating the commercial transportation of horses to slaughter by person regularly engaged in that activity within the United States. To fulfill this responsibility, the Animal and Plant Health Inspection Service (APHIS) established regulations in title 9, part 88 of the Code of Federal Regulations. The minimum standards cover among other things the food, water, and rest provided to these horses while they are in transit; and to review other related issues that may be appropriate to ensuring that these animals are treated humanely. Implementing these regulations entails the use of two information collection activities in the form of an owner-shipper certificate, as well as the collection of employment information on any person found to be transporting horses to a slaughtering facility.

Need and Use of the Information: APHIS will collect the following information: (1) Shippers name and address and the owner's name and address; (2) description of the transporting vehicle, including the license plate number; (3) a description of the horse's physical characteristics, including its sex, coloring, distinguishing marks, permanent brands, electronic means of identification, or other characteristics that can be use to accurately identify the horse; (4) the number of the USDA back tag that has been applied to the horse for identification purposes; (5) a statement of the animal's fitness to travel, which must indicate that the horse is able to bear weight on all four limbs, is able to walk unassisted, is not blind in both eyes, is older than 6 months of age, and is not likely to give birth during the trip; (6) a description of anything unusual with regard to the physical condition of the horse, such as a wound or blindness in one eye, and any special handling needs; (7) the date, time, and place the horse was loaded on the conveyance; and (8) a statement that the horse was provided access to food, water, and rest prior to transport. This information is helpful in those instances in which APHIS must conduct a trace back investigation of any possibly stolen horses.

Description of Respondents: Business or Other For-Profit; Individuals or Households; Farms.

Number of Respondents: 200.

Frequency of Responses: Recordkeeping; Reporting: On occasion.

Total Burden Hours: 4,203.

Animal Plant & Health Inspection Service

Title: Pseudorabies In Swine; Payment To Indemnity.

OMB Control Number: 0579-0137.

Summary of Collection: The United States Department of Agriculture is responsible for preventing the interstate spread of pest and diseases of livestock within the United States and for conducting eradication programs. The Animal and Plant Health Inspection Service (APHIS) established an accelerated pseudorabies program, including the payment of indemnity, to further pseudorabies eradication efforts in cooperation with States and industry and to protect swine not infected with pseudorabies from the disease. Pseudorabies is a contagious, infectious, and communicable disease of livestock, primarily swine. Regulations in 9 CFR part 85 govern the interstate movement of swine and other livestock (cattle, sheep, and goats) in order to help prevent the spread of pseudorabies. APHIS will collect information using several APHIS forms.

Need and Use of the Information: APHIS will collect information on the number of animals being relinquished, their estimated weight, and the market price of the animals for the particular week, and the total compensation amount that the owner can expect to receive. If the information were not collected, APHIS would not be able to launch the accelerated pseudorabies eradication program.

Description of Respondents: Business or other for-profit; Farms; State, Local or Tribal Government.

Number of Respondents: 5,700.

Frequency of Responses: Reporting: On occasion.

Total Burden Hours: 3,156.

Animal & Plant Health Inspection Service

Title: Restrictions on Importation of Live Poultry, Poultry Meat, and Other Poultry Products from Specified Regions.

OMB Control Number: 0579-0228.

Summary of Collection: Title 21 U.S.C. 117, Animal Industry Act of 1884, authorizes the Secretary to prevent, control and eliminate domestic diseases such as brucellosis, as well as to take actions to prevent and manage exotic diseases such as classical swine fever and other foreign animal diseases. Veterinary Services of the USDA's Animal and Plant Health Inspection Service (APHIS) is responsible for administering regulations intended to prevent the introduction of animal diseases into the United States. The regulations in 9 CFR Part 94 allow the importation of poultry meat and products and live poultry from Argentina and the Mexican States of Campeche, Quintana Roo, and Yucatan under certain conditions. APHIS will collect information through the use of a certification statement that must be completed by Mexican veterinary authorities prior to export.

Need and Use of the Information: The information collected from the certificate will provide APHIS with critical information concerning the origin and history of the items destined for importation in the United States. Without the information APHIS' ability to ensure that poultry, poultry meat, or other poultry products from certain States within Mexico pose a minimal risk of introducing exotic Newcastle disease and other exotic animal diseases into the United States.

Description of Respondents: Federal Government.

Number of Respondents: 10.

Frequency of Responses: Reporting: On occasion.

Total Burden Hours: 100.

Ruth Brown,
Departmental Information Collection Clearance Officer.

[FR Doc. E7-18397 Filed 9-18-07; 8:45 am]

BILLING CODE 3410-34-P